DEPARTMENT OF ENERGY

International Energy Agency Meeting

AGENCY: Department of Energy.

ACTION: Notice of Meetings.

SUMMARY: The Industry Advisory Board (IAB) to the International Energy Agency (IEA) will meet on February 20 and 21, 2007, at the headquarters of the IEA in Paris, France, including in connection with a joint meeting of the IEA's Standing Group on Emergency Questions (SEQ) and the IEA's Standing Group on the Oil Market on February 20, and a meeting of SEQ on February 21.

DATES: February 20-21, 2007.

ADDRESSES: 9, rue de la Fédération, Paris, France.

FOR FURTHER INFORMATION CONTACT: Samuel M. Bradley, Assistant General for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on February 20, 2007, beginning at 11 a.m. and continuing on February 21, 2007, at 9 a.m. and 10 a.m. The purpose of this notice is to permit attendance by representatives of U.S. company members of the IAB at a joint meeting of the IEA's Standing Group on Emergency Questions (SEQ) and the IEA's Standing Group on the Oil Market (SOM) on February 20 beginning at 11 a.m.; at a preparatory encounter among IAB members on February 21 from approximately 9 a.m. to approximately 9:30 a.m.; and at a meeting of the SEQ on February 21 beginning at 10 a.m.

The agenda of the joint SEQ/SOM meeting on February 20 is under the control of the SEQ and the SOM. It is expected that the SEQ and the SOM will adopt the following agenda:

1. Adoption of the Agenda of the Joint SEQ/SOM Session.

2. Approval of the Summary Record of the November 2006 Joint SEQ/SOM Session.

Part I: Market Updates

3. Natural Gas Market Update.

4. Current and Medium-term Oil Market Update.

Part II: Workshop on Resource Nationalism

5. From Resource Nationalism to Resource Management.

6. Russian Oil and Gas in Perspective.

7. Venezuela: Going Full Circle.

8. Assessing Investment Risks: Case Studies Impact of Contract and Ownership Change.

9. Resource Nationalism—Implications for Security and Supply.

10. Other Business.

The agenda of the IAB meeting on February 21, 2007, is review of the agenda for the SEQ meeting on that date beginning at 10 a.m.

The agenda of the SEQ meeting on February 21, 2007 is under the control of the SEQ. It is expected that the SEQ will adopt the following agenda:

1. Adoption of the Agenda.

2. Approval of the Summary Record of the 118th Meeting. Approval of the Summary Record of the Joint Session of the SEQ/SOM.

3. Status of Compliance with IEP Stockholding Commitments.

—Reports by Non-Complying Member countries.

4. Program of Work.

—The SEQ Program of Work and Budget for 2007-2008.

—Schedule of Upcoming Activities.

5. Emergency Response Review Program.

—Emergency Response Review of Switzerland.

—Emergency Response Review of Germany.

6. The Druzhba Pipeline Disruption of January 2007.

—Overview of the January 2007 Druzhba Pipeline Disruption.

—Lessons Learned by Member and Candidate Countries.

7. Report on Current Activities of the IAB.

8. Emergency Response Exercise 4.

—First Steps Toward ERE 4.

5. Emergency Response Review Program (continued).

—Emergency Response Review of Austria.

—Emergency Response Review of the Slovak Republic.

9. Other Emergency Response Activities.

10. Activities with Non-Member Countries and International Organizations.

—Update on Situation of Applicant Countries.

—Office of Global Dialogue Activities.

11. Documents for Information.

—Emergency Reserve Situation of IEA Member Countries on October 1, 2006.

—Emergency Reserve Situation of IEA Candidate Countries on October 1, 2006.

—Base Period Final Consumption: 4Q 2005-3Q 2006.

—Monthly Oil Statistics: November 2006.

—Update of Emergency Contacts List.

12. Other Business.

—Panel of Arbitrators Nominations.

—Dates of Next SEQ Meetings.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, February 12, 2007.
Samuel M. Bradley,
Assistant General Counsel for International and National Security Programs.

[FR Doc. E7-2670 Filed 2-14-07; 8:45 am]

BILLING CODE 6450-01-P